DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing the indicated licensing contact at the National Heart, Lung, and Blood, Office of Technology Transfer and Development Office of Technology Transfer, 31 Center Drive, Room 4A29, MSC2479, Bethesda, MD 20892-2479; telephone: 301-402-5579. A signed Confidential Disclosure Agreement may be required to receive any unpublished information.

SUPPLEMENTARY INFORMATION: Technology description follows.

Medical Device for Vascular Dilation

A vascular dilator is commonly used in transcatheter cardiovascular intervention procedures. Commercially available vascular dilators have introducer sheaths with a finite thickness and mismatched diameter with the dilators. This causes uneven stretching of the trailing edge of the sheath and severe damage to the target vessels. This technology produces the specialized sheath with a shoulder that can be introduced percutaneously with an enhanced dilator into a broad range of diseased target vessels and chambers with reduced vascular injury. The shoulder helps to match the diameter of the introducer sheath so that there is a smooth transition between the dilator and the introducer sheath. The invention allows the dilator to be withdrawn in segments without disrupting the introducer sheath.

Development Stage: Reduces vascular injury while using large-bore introducer sheaths in interventional cardiac procedures:

Transcatheter aortic valve replacement

Direct transthoracic access into the heart muscle for endografts

Inventors: Dr. Robert Lederman (NHLBI), Dr. Ozgur Kocaturk (NHLBI), Dr. Adam Greenbaum (Henry Ford Hospital).

Intellectual Property: HHS Reference No. E-759-2013/0; U.S Provisional Patent Application 61/890,961 filed October 15, 2013, International Patent Application PCT/US2014/060270 filed October 13, 2014, U.S. Patent Application 15/025,336 filed March 28, 2016, European Patent 3057646 validated in Switzerland, Germany, France, the United Kingdom, and Ireland.

Licensing Contact: Michael Shmilovich, Esq., CLP; 301-435-5019; shmilovm@mail.nih.gov.

Dated: April 4, 2019.
Michael A. Shmilovich,
Senior Licensing and Patenting Manager, National Heart, Lung, and Blood Institute, Office of Technology Transfer and Development.

[FR Doc. 2019-07232 Filed 4-11-19; 8:45 am]

BILLING CODE 4140-01-P